DEPARTMENT OF HOMELAND SECURITY

U.S. Immigration and Customs Enforcement

[OMB Control Number 1653-0042]

Agency Information Collection Activities: Extension of a Currently Approved Collection: Obligor Change of Address

AGENCY: U.S. Immigration and Customs Enforcement, Department of Homeland Security.

ACTION: 60-Day notice.

SUMMARY: In accordance with the Paperwork Reductions Act (PRA) of 1995 the Department of Homeland Security (DHS), U.S. Immigration and Customs Enforcement (ICE) will submit the following Information Collection Request (ICR) to the Office of Management and Budget (OMB) for review and clearance.

DATES: Comments are encouraged and will be accepted until September 23, 2019.

ADDRESSES: All submissions received must include the OMB Control Number 1653-0042 in the body of the letter, the agency name and Docket ID ICEB-2019-0007. All comments received will be posted without change to http://www.regulations.gov, including any personal information provided. To avoid duplicate submissions, please use only one of the following methods to submit comments:

(1) Online. Submit comments via the Federal eRulemaking Portal website at http://www.regulations.gov under e-Docket ID number ICEB-2019-0007;

(2) Mail: Submit written comments to DHS, ICE, Office of the Chief Information Officer (OCIO), PRA Clearance, Washington, DC 20536-5800.

FOR FURTHER INFORMATION CONTACT: For specific question related to collection activities, please contact: Carl Albritton (202-732-5918), carl.a.albritton@ice.dhs.gov, ERO Bond Management Unit, U.S. Immigration and Customs Enforcement.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a Currently Approved Collection.

(2) Title of the Form/Collection: Obligor Change of Address.

(3) Agency form number, if any, and the applicable component of the Department of Homeland Security sponsoring the collection: I-333; ICE.

(4) Affected public who will be asked or required to respond, as well as a brief abstract: Primary: Individual or Households, Business or other nonprofit. The data collected on this form is used by ICE to ensure accuracy in correspondence between ICE and the obligor. The form serves the purpose of standardizing obligor notification of any changes in their address and will facilitate communication with the obligor.

(5) An estimate of the total number of respondents and the amount of time estimated for an average respondent to respond: 12,000 responses at 15 minutes (.25 hours) per response.

(6) An estimate of the total public burden (in hours) associated with the collection: 3,000 annual burden hours.

Dated: July 19, 2019.
Scott Elmore,
PRA Clearance Officer.

[FR Doc. 2019-15702 Filed 7-23-19; 8:45 am]

BILLING CODE 9111-28-P